DEPARTMENT OF THE INTERIOR

Bureau of Land Management

[LLORW00000.L10200000.DF0000.18XL1109AF.LXSSH1070000.HAG 18-0048]

Notice of Public Meeting for the Eastern Washington Resource Advisory Council

AGENCY: Bureau of Land Management, Interior.

ACTION: Notice of public meeting.

SUMMARY: In accordance with the Federal Land Policy and Management Act of 1976 and the Federal Advisory Committee Act of 1972, the U.S. Department of the Interior, Bureau of Land Management (BLM) Eastern Washington Resource Advisory Council (EWRAC) will meet as indicated below.

DATES: The EWRAC will hold a public meeting on Thursday, March 22, 2018. The meeting will run from 8:00 a.m. to 2:30 p.m. Pacific Time. A public comment period will be available from 1 until 1:30 p.m. There will be an EWRAC field trip to the Juniper Dunes Recreation Area on Wednesday, March 21, 2018, from 1:00 p.m. to 4:00 p.m.

ADDRESSES: The EWRAC meeting will be held in the Oak Room at the Red Lion Inn, 2525 N 20th Ave., Pasco, WA 99301. The EWRAC field trip to the Juniper Dunes Recreation Area will depart from Country Mercantile, 232 Crestloch Rd., Pasco, WA 99301.

FOR FURTHER INFORMATION CONTACT: Jeff Clark, Public Affairs Officer, 1103 N Fancher, Spokane Valley, WA 99212; 509-536-1297; jeffclark@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The 15-member EWRAC was chartered to provide information and advice regarding the use and development of the lands administered by the Spokane District in central and eastern Washington. Members represent an array of stakeholder interests in the land and resources from within the local area and statewide.

All meetings are open to the public in their entirety. The field trip on Wednesday, March 21, 2018, will be to the Juniper Dunes Recreation Area. Members of the public wanting to attend must provide their own transportation. The EWRAC meeting agenda on Thursday, March 22, 2018, includes a discussion of the the Juniper Dunes field trip and updates on Juniper Dunes public access and the BLM Eastern Washington Resource Management Plan. There will be a public comment period from 1:00 p.m. to 1:30 p.m. Persons wishing to make comments during the public comment period should register in person with the BLM by noon on the meeting day, at the meeting location. Depending on the number of persons wishing to comment, the length of comments may be limited. The public may send written comments to the EWRAC at BLM Spokane District, Attn. EWRAC, 1103 N. Fancher, Spokane Valley, WA 99212. Before including your address, phone number, email address, or other personal identifying information in your comments, please be aware that your entire comment—including your personal identifying information—may be made publicly available at any time. While you can ask us in your comment to withhold your personal identifying information from public review, we cannot guarantee that we will be able to do so.

Authority: 43 CFR 1784.4-2.

Linda Clark,
Spokane District Manager.

[FR Doc. 2018-05048 Filed 3-12-18; 8:45 am]

BILLING CODE 4310-33-P